DEPARTMENT OF TRANSPORTATION

Federal Aviation Administration

RTCA Special Committee 159: Global Positioning System (GPS)

AGENCY: Federal Aviation Administration (FAA), DOT.

ACTION: Notice of RTCA Special Committee 159 meeting.

SUMMARY: The FAA is issuing this notice to advise the public of a meeting of RTCA Special Committee 159: Global Positioning System (GPS).

DATES: The meeting will be held April 30-May 4, 2007, from 9 a.m. to 4:30 p.m. (unless stated otherwise).

ADDRESSES: The meeting will be held at RTCA, Inc., 1828 L Street, NW., Suite 805, Washington, C 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 159 meeting. Note: Specific working group sessions will be held April 30-May 4, 2007. The plenary agenda will include:

April 30:

• All Day, Working Group 2C, GPS/Inertial, MacIntosh-NBAA Room & Hilton-ATA Room.

• Afternoon (1-4:30 p.m.) Working Group 6, GPS/Interference, Colson Board Room.

May 1:

• All Day, Working Group 4, Precision Landing Guidance (GPS/LAAS), MacIntosh-NBAA Room & Hilton-ATA Room.

• All Day, Working Group 6, GPS/Interference, Colson Room.

May 2:

• Morning (9-12 p.m.) Working Group 2, Wide Area Augmentation System (GPS/WAAS), Colson Board Room.

• Morning (9-12 p.m.) Working Group 4, Precision Landing Guidance (GPS/LAAS), MacIntosh-NBAA Room & Hilton-ATA Room.

• Morning (9-12 p.m.), working Group 6, GPS/Interference, ARINC Room.

• Afternoon (1-4:30 p.m.), Joint, Working Groups 2, 4, 6, 7 & 8/EUROCAE WG-62, MacIntosh-NBAA Room & Hilton-ATA Room.

Note: Agenda for this session—Discussion on possible future joint FTCA/EUROCAE GPS-GALLILEO documents.

May 3:

• All Day, Working Group 4, Precision Landing Guidance (GPS/LAAS), Macntosh-NBAA Room & Hilton-ATA Room.

• Morning (9-12 p.m.), Working Group 6, GPS/Interference, Colson Board.

• Afternoon (1-4:30 p.m.), Working Group 7, GPS/Antennas, Colson Board Room.

• Morning (9-12 p.m.), Working Group 8, GPS/GRAS, ARINC Room.

• May 4:

• Opening Plenary Session (Welcome and Introductory Remarks).

• Approval of Summary of the Seventy-First Meeting held January 12, 2007, RTCA Paper No. 081-07/SX159-948.

• Review Working Group (WG) Progress and Identify Issues for Resolution.

• Global Positioning System (GPS)/3rd Civil Frequency (WG-1).

• GPS/Wide Area Augmentation System (WAAS) (WG-2).

• GPS/GLONASS (WG-2A).

• GPS/Inertial (WG-2C).

• GPS/Precision Landing Guidance (WG-4)

• GPS/Airport Surface Surveillance (WG-5).

• GPS/Interference (WG-6).

• GPS/Antennas (WG-7).

• GPS/GRAS (WG-8).

• Review of EUROCAE activities.

• Consider for Approval—revised DO-253A—Minimum Operational Performance Standards for GPS Local Area Augmentation System Airborne Equipment, TRCA Paper No. 030-07/SC 159-947.

• Closing Plenary Session (Assignment/Review of Future Work, Other Business, Date and Place of Next Meeting).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on April 3, 2007.
Francisco Estrada C.,
RTCA Advisory Committee.

[FR Doc. 07-1806 Filed 4-11-07; 8:45 am]

BILLING CODE 4910-13-M